COMMISSION ON CIVIL RIGHTS

Sunshine Act Notice

AGENCY: United States Commission on Civil Rights.

ACTION: Notice of briefing and business meeting.

DATE AND TIME: Friday, March 14, 2014; 9:30 a.m. EST

PLACE: 1331 Pennsylvania Ave NW., Suite 1150, Washington, DC 20425.

Briefing Agenda—9:30 a.m.-1:05 p.m.

This briefing is open to the public.

Topic: Patient Dumping.

I. Introductory Remarks by Chairman

II. Panel I—9:30 a.m.-10:45 a.m.: Government Panel

Speakers' Remarks and Questions from Commissioners

III. Panel II—10:45 a.m.-12:00 p.m.: Advocate/Practitioner Panel

Speakers' Remarks and Questions from Commissioners

IV. Panel III—12:05 p.m.-1:05 p.m.: Scholar Panel

Speakers' Remarks and Questions from Commissioners

V. Adjourn Briefing

Meeting Agenda—2:00 p.m.

I. Approval of Agenda

II. Program Planning

• Discussion and vote on two proposed Commission letters to POTUS and Congress on the introduction of two new national days of commemoration

• Discussion and vote to reschedule the pending briefings for April and May

• Discussion and vote on issuing a report on the 2012 State Immigration Enforcement briefing

III. Management and Operations

• Staff Director Report

IV. Approval of State Advisory Committee Slates

• Alabama

• District of Columbia

• Hawaii

• Nevada

• Washington

V. Adjourn Meeting

CONTACT PERSON FOR FURTHER INFORMATION: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

Dated: March 3, 2014.
David Mussatt,
Acting Chief, Regional Programs Coordination Unit.

[FR Doc. 2014-04944 Filed 3-4-14; 11:15 am]

BILLING CODE 6335-01-P